DEPARTMENT OF HOMELAND SECURITY

Coast Guard

46 CFR Parts 2, 15, 136, 137, 138, 139, 140, 141, 142, 143, and 144

[Docket No. USCG-2006-24412]

RIN 1625-AB06

Inspection of Towing Vessels

AGENCY: Coast Guard, DHS.

ACTION: Notice of public meetings; request for comments.

SUMMARY: The Coast Guard announces a series of public meetings to receive comments on a notice of proposed rulemaking (NPRM) entitled “Inspection of Towing Vessels” that was published in the Federal Register on August 11, 2011. As stated in that document, the regulations proposed in the NPRM would establish safety regulations governing the inspection, standards, and safety management systems of towing vessels. The proposal includes provisions covering: Specific electrical and machinery requirements for new and existing towing vessels, the use and approval of third-party auditors and surveyors, and procedures for obtaining Certificates of Inspection. Without making a specific proposal in the NPRM regarding potential requirements for hours of service or crew endurance management for mariners aboard towing vessels, the Coast Guard also welcomes comments on these two important issues, which are discussed in the NPRM.

DATES: Public meetings will be held on the following dates to provide an opportunity for oral comments:

• Tuesday, October 18, 2011, in Newport News, VA, from 9 a.m. until 5 p.m.;

• Monday, October 24, 2011, in St. Louis, MO, from 9 a.m. until 5 p.m.;

• Wednesday, October 26, 2011, in New Orleans, LA, from 9 a.m. until 5 p.m.;

• Wednesday, November 16, 2011, in Seattle, WA, from 9 a.m. until 5 p.m.

Written comments and related material may also be submitted to Coast Guard personnel specified at those meetings for inclusion in the official docket for this rulemaking. The comment period for the NPRM closes on December 9, 2011. All comments and related material submitted after the meeting must either be submitted to our online docket via http://www.regulations.gov on or before December 9, 2011, or reach the Docket Management Facility by that date.

ADDRESSES: The public meetings will be held at the following locations:

• Tuesday, October 18, 2011—Point Plaza Suites at City Center, 950 J. Clyde Morris Blvd., Newport News, VA 23601.

• Monday, October 24, 2011—Crowne Plaza (Downtown), 200 N. Fourth Street, St. Louis, MO 63102.

• Wednesday, October 26, 2011—Crowne Plaza (New Orleans-Airport), 2829 Williams Blvd., Kenner, LA 70062.

• Wednesday, November 16, 2011—Hotel 1000, 1000 First Avenue, Seattle, WA 98104.

Live Webcasts (audio and video) of the four public meetings will also be broadcast online. The Web site for viewing those Webcasts can be found at http://www.Towingvesselregs.us. The Webcasts will only enable those using this feature to view the proceedings—it will not allow them to make remarks to those participating in the meetings in person.

As long as they are received by December 9, 2011, you may submit written comments identified by docket number USCG-2006-24412 before or after the meetings using any one of the following methods:

• Federal eRulemaking Portal: http://www.regulations.gov. Follow the instructions for submitting comments (this is the preferred method to avoid delays in processing).

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal Holidays. The telephone number is 202-366-9329. To avoid duplication, please use only one of these four methods. Our online docket for this rulemaking is available on the Internet at http://www.regulations.gov under docket number USCG-2006-2441.

FOR FURTHER INFORMATION CONTACT: If you have questions concerning the meeting or the proposed rule, please call or e-mail Michael Harmon, Project Manager, CGHQ-1210, Coast Guard, telephone 202-372-1427, e-mail: Michael.J.Harmon@uscg.mil. If you have questions on viewing or submitting material to the docket, call Ms. Renee V. Wright, Program Manager, Docket Operations, telephone 202-366-9826.

SUPPLEMENTARY INFORMATION:

Background and Purpose

The Coast Guard published a notice of proposed rulemaking (NPRM) in the Federal Register on August 11, 2011 (69 FR 49976; http://www.gpo.gov/fdsys/pkg/FR-2011-08-11/pdf/2011-18989.pdf), entitled “Inspection of Towing Vessels.” In it we stated our intention to hold public meetings, and to publish a notice announcing the locations and dates. This document is the notice of those meetings.

The Coast Guard and Maritime Transportation Act of 2004 (CGMTA 2004), Public Law 108-293, 118 Stat. 1028, (Aug. 9, 2004), established new authorities for towing vessels, including Section 415, which added towing vessels, as defined in section 2101 of title 46, United States Code (U.S.C.), as a class of vessels that are subject to safety inspections under chapter 33 of that title (Id. at 1047).

In the NPRM published on August 11, 2011, the Coast Guard proposes to establish safety regulations governing the inspection of, and standards and safety management systems for, towing vessels. The proposal includes provisions covering: Specific electrical and machinery requirements for new and existing towing vessels, the use and approval of third-party auditors and surveyors, and procedures for obtaining Certificates of Inspection. The intent of the proposed rulemaking is to promote safer work practices and reduce casualties on towing vessels by requiring that towing vessels adhere to prescribed safety standards and safety management systems or to an alternative, annual Coast Guard inspection regime.

Without making a specific proposal in the NPRM, the Coast Guard also seeks additional data, information and public comment on potential requirements for hours of service or crew endurance management for mariners aboard towing vessels. The Coast Guard would later request public comment on specific hours of service or crew endurance management regulatory text if it seeks to implement such requirements.

You may view the NPRM in our online docket (document number USCG-2006-24412-0001), in addition to supporting documents prepared by the Coast Guard (including the Preliminary Regulatory Analysis and Initial Regulatory Flexibility Analysis, document number USCG-2006-24412-0002), other supplemental material, and comments submitted thus far by going to http://www.regulations.gov. Once there, insert USCG-2006-24412 or the document number in the Keyword ID box, press Enter, and then click on the item you are interested in viewing. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this rulemaking by submitting comments either orally at the meeting or in writing. If you bring written comments to the meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008 issue of the Federal Register (73 FR 3316).

Information on Services for Individuals With Disabilities

For information on facilities or services for individuals with disabilities or to request special assistance at the public meetings, contact Michael Harmon at the telephone number or e-mail address indicated under the FOR FURTHER INFORMATION CONTACT section of this notice.

Public Meetings

As stated in the ADDRESSES section, the Coast Guard will hold public meetings regarding its Inspection of Towing Vessels proposed rule on the following dates at the stated locations:

• Tuesday, October 18, 2011—Point Plaza Suites at City Center, 950 J. Clyde Morris Blvd., Newport News, VA 23601.

• Monday, October 24, 2011—Crowne Plaza (Downtown), 200 N. Fourth Street, St. Louis, MO 63102.

• Wednesday, October 26, 2011—Crowne Plaza (New Orleans-Airport), 2829 Williams Blvd., Kenner, LA 70062.

• Wednesday, November 16, 2011—Hotel 1000, 1000 First Avenue, Seattle, WA 98104.

Each meeting will be conducted from 9 a.m. until 5 p.m., with a planned lunch break for approximately 60 to 90 minutes at a convenient point during the commenting period. The Coast Guard may conclude a meeting early if at any time after 1 p.m. all persons present at a meeting who wish to submit oral comments have done so.

Live Webcasts (audio and video) of the four public meetings will also be broadcast online. The Web site for viewing those Webcasts can be found at http://www.Towingvesselregs.us. The Webcasts will only enable those using this feature to view the proceedings—it will not allow Webcast viewers to make remarks to those participating in the meetings in person.

We plan to make an audio recording of the meetings available through a link in our online docket. We also plan to provide a written summary of oral comments presented at the meetings and will place those summaries in the docket.

Dated: September 2, 2011.
R.C. Proctor,
Acting Director of Commercial Regulations and Standards.

[FR Doc. 2011-23053 Filed 9-8-11; 8:45 am]

BILLING CODE 9110-04-P